DEPARTMENT OF THE INTERIOR

Fish and Wildlife Service

Notice of Endangered and Threatened Wildlife and Plants; Initiation of a 5-Year Review of Nine Listed Species: the Purple Bean (Villosa perpurpurea), Clubshell (Pleurobema clava), Northern Red-bellied Cooter (Pseudemys rubriventris bangsi), Roanoke Logperch (Percina rex), Swamp Pink (Helonias bullata), Northern Riffleshell (Epioblasma torulosa rangiana), Flat-spired Three-toothed Land Snail (Triodopsis platysayoides), Puritan Tiger Beetle (Cicindela puritana), and Dwarf Wedgemussel (Alasmidonta heterodon)

AGENCY: Fish and Wildlife Service, Interior.

ACTION: Notice.

SUMMARY: Pursuant to section 4(c)(2)(A) of the Endangered Species Act of 1973 (ESA) (16 U.S.C. 1531 et seq.), the U.S. Fish and Wildlife Service (Service) announces a 5-year review of the endangered purple bean (Villosa perpurpurea), clubshell (Pleurobema clava), northern red-bellied cooter (Pseudemys rubriventris bangsi), Roanoke logperch (Percina rex), northern riffleshell (Epioblasma torulosa rangiana), and dwarf wedgemussel (Alasmidonta heterodon); and the threatened swamp pink (Helonias bullata), flat-spired three-toothed land snail (Triodopsis platysayoides), and Puritan tiger beetle (Cicindela puritana). A 5-year review is a periodic process conducted to ensure that the listing classification of a species is accurate. A 5-year review is based on the best scientific and commercial data available at the time of the review; therefore, we are requesting submission of any such information on the purple bean, clubshell, northern red-bellied cooter, Roanoke logperch, northern riffleshell, and dwarf wedgemussel, that has become available since their original listings as endangered species in 1997 (62 FR 1647-1658), 1993 (58 FR 5638-5642), 1980 (45 FR 21828-21833), 1989 (54 FR 34468-34472), 1993 (58 FR 5638-5642), and 1990 (55 FR 9447-9451), respectively. In addition, we are requesting submission of any such information on the swamp pink, flat-spired, three-toothed land snail, and Puritan tiger beetle that has become available since their listing as threatened species in 1988 (53 FR 35076-35080), 1978 (43 FR 28932-28935), and 1998 (55 FR 32088-32094), respectively. Based on the results of these 5-year reviews, we will make the requisite findings under section 4(c)(2)(B) of the ESA.

DATES: To allow us adequate time to conduct this review, we must receive your information no later than June 20, 2006. However, we will continue to accept new information about any listed species at any time.

ADDRESSES: Submit information to the U.S. Fish and Wildlife Service, Northeast Regional Office, 300 Westgate Center Drive, Hadley, Massachusetts 01035, to the attention of Ms. Mary Parkin. Information received in response to this notice and review will be available for public inspection, by appointment, during normal business hours, at the above address. Information may also be sent to Mary_Parkin@fws.gov.

FOR FURTHER INFORMATION CONTACT: Ms. Mary Parkin at the above address or at 617-876-6173.

SUPPLEMENTARY INFORMATION: Under the Act, the Service maintains a list of endangered and threatened wildlife and plant species at 50 CFR 17.11 (for animals) and 17.12 (for plants). Section 4(c)(2)(A) of the Act requires that we conduct a review of listed species at least once every 5 years. Then, on the basis of such reviews under section 4(c)(2)(B), we determine whether or not any species should be removed from the list (delisted), or reclassified from endangered to threatened or from threatened to endangered. Delisting a species must be supported by the best scientific and commercial data available and only considered if such data substantiates that the species is neither endangered nor threatened for one or more of the following reasons: (1) The species is considered extinct; (2) the species is considered to be recovered; and/or (3) the original data available when the species was listed, or the interpretation of such data, were in error. Any change in Federal classification would require a separate rulemaking process. The regulations in 50 CFR 424.21 require that we publish a notice in the Federal Register announcing those species currently under active review. This notice announces our active review of the purple bean, clubshell, northern red-bellied cooter, Roanoke logperch, northern riffleshell, and dwarf wedgemussel, currently listed as endangered, and the swamp pink, flat-spired three-toothed land snail, and Puritan tiger beetle, currently listed as threatened.

Public Solicitation of New Information

To ensure that the 5-year review is complete and based on the best available scientific and commercial information, we are soliciting new information from the public, concerned governmental agencies, Tribes, the scientific community, industry, environmental entities, and any other interested parties concerning the status of the purple bean, clubshell, northern red-bellied cooter, Roanoke logperch, swamp pink, northern riffleshell, flat-spired three-toothed land snail, Puritan tiger beetle, and dwarf wedgemussel.

The 5-year review considers the best scientific and commercial data and all new information that has become available since the listing determination or most recent status review. Categories of requested information include (A) Species biology, including but not limited to, population trends, distribution, abundance, demographics, and genetics; (B) habitat conditions, including but not limited to, amount, distribution, and suitability; (C) conservation measures that have been implemented that benefit the species; (D) threat status and trends; and (E) other new information, data, or corrections, including but not limited to, taxonomic or nomenclatural changes, identification of erroneous information contained in the list, and improved analytical methods.

If you wish to provide information for this 5-year review, you may submit your comments and materials to the Ms. Mary Parkin (see ADDRESSES section). Our practice is to make comments, including names and home addresses of respondents, available for public review during regular business hours. Individual respondents may request that we withhold theirs identity, to the extent allowable by law. If you wish us to withhold your name or address, you must state this request prominently at the beginning of your comment. We will not, however, consider anonymous comments. To the extent consistent with applicable law, we will make all submissions from organizations or businesses, and from individuals identifying themselves as representatives or officials of organizations or businesses, available for public inspection in their entirety. Comments and materials received will be available for public inspection, by appointment, during normal business hours (see ADDRESSES section).

Author: The primary author of this notice is Ms. Mary Parkin of the U.S. Fish and Wildlife Service, Northeast Regional Office, 300 Westgate Center Drive, Hadley, Massachusetts 01035.

Authority: This document is published under the authority of the Endangered Species Act of 1973, as amended (16 U.S.C. 1531 et seq.).

Dated: March 31, 2006.
Richard O. Bennett,
Acting Regional Director, Region 5, U.S. Fish and Wildlife Service.

[FR Doc. E6-5989 Filed 4-20-06; 8:45 am]

BILLING CODE 4310-55-P